DEPARTMENT OF THE TREASURY

Treasury Advisory Committee on Commercial Operations of the U.S. Customs Service

AGENCY: Departmental Offices, Treasury.

ACTION: Notice of meeting.

SUMMARY: This notice announces the date, time, and location for the quarterly meeting of the Treasury Advisory Committee on Commercial Operations of the U.S. Customs Service (COAC), and the provisional meeting agenda.

DATES: The next meeting of the Treasury Advisory Committee on Commercial Operations of the U.S. Customs Service will be held on Friday, June 14, 2002, starting at 9 a.m., at the Treasury Department, 1500 Pennsylvania Avenue, NW., Washington, DC. The meeting will be held in the Secretary's Conference Room, Rm. 3325, for approximately four hours.

FOR FURTHER INFORMATION, CONTACT: Gordana S. Earp, Director, Tariff and Trade Affairs (Enforcement), Office of the Under Secretary (Enforcement), Telephone: (202) 622-0336.

At this meeting, the Advisory Committee is expected to pursue the following draft agenda. The agenda may be modified prior to the meeting.

Agenda

I. Update on Supply Chain Security and Customs-Trade Partnership Against Terrorism (“C-TPAT”);

II. Other Issues:

A. ACE/ITDS Update;

B. Report of the Customs Office of Rulings and Regulations;

C. Update on Focused Assessment and Importer Self-Assessment Programs;

D. Treasury Data Study and G-7 Data Uniformity Initiative;

E. Customs Uniformity Initiative;

III. Administrative Issues:

A. Status of 2001 COAC Annual Report to the Congress;

B. Next Meeting

SUPPLEMENTARY INFORMATION: The Advisory Committee on Commercial Operations of the United States Customs Service (“COAC”) was created by Congress in Public Law 100-203, Title IX, Section 9503(c), December 22, 1987, 100 Stat. 1330-381 (19 U.S.C. 2071 note). The Committee advises the Secretary of the Treasury and reports to Congress any recommendations on matters involving the commercial operations of the United States Customs Service. By statute, the Secretary of the Treasury appoints the members of this Committee, and the Assistant Secretary of the Treasury for Enforcement presides over the meetings.

The June 14, 2002 meeting of the Committee is open to the public; however, participation in the Committee's deliberations is limited to Committee members, Customs and Treasury Department staff, and persons invited to address the meeting for special presentations. A person other than an Advisory Committee member who wishes to attend the meeting should contact Theresa Manning at (202) 622-0220 or Helen Belt at (202) 622-0230.

Dated: May 21, 2002.
Timothy E. Skud,
Deputy Assistant Secretary, Regulatory, Tariff, and Trade (Enforcement).

[FR Doc. 02-13223 Filed 5-24-02; 8:45 am]

BILLING CODE 4810-25-P